DEPARTMENT OF TRANSPORTATION

Federal Aviation Administration

14 CFR Part 71

[Docket No. FAA-2010-0619; Airspace Docket No. 10-AWP-11]

Modification of Class E Airspace; San Clemente, CA

AGENCY: Federal Aviation Administration (FAA), DOT.

ACTION: Final rule.

SUMMARY: This action will amend Class E airspace at San Clemente, CA. Decommissioning of the San Clemente Island Non-Directional Radio Beacon (NDB) at San Clemente Island NALF (Frederick Sherman Field) has made this action necessary for the safety and management of Instrument Flight Rules (IFR) operations at the airport. This action also makes a minor adjustment to the geographic coordinates of the airport.

DATES: Effective date, 0901 UTC, January 13, 2011. The Director of the Federal Register approves this incorporation by reference action under 1 CFR Part 51, subject to the annual revision of FAA Order 7400.9 and publication of conforming amendments.

FOR FURTHER INFORMATION CONTACT: Eldon Taylor, Federal Aviation Administration, Operations Support Group, Western Service Center, 1601 Lind Avenue, SW., Renton, WA 98057; telephone (425) 203-4537.

SUPPLEMENTARY INFORMATION:

History

On July 20, 2010, the FAA published in the Federal Register a notice of proposed rulemaking to amend controlled airspace at San Clemente, CA (75 FR 42014). Interested parties were invited to participate in this rulemaking effort by submitting written comments on the proposal to the FAA. No comments were received. Subsequent to publication, the FAA found the geographic coordinates of the airport needed to be adjusted. This action makes the adjustment. With the exception of editorial changes, and the changes described above, this rule is the same as that proposed in the NPRM.

Class E airspace designations are published in paragraph 6004, of FAA Order 7400.9U dated August 18, 2010, and effective September 15, 2010, which is incorporated by reference in 14 CFR Part 71.1. The Class E airspace designations listed in this document will be published subsequently in that Order.

The Rule

This action amends Title 14 Code of Federal Regulations (14 CFR) Part 71 by amending Class E airspace designated as an extension to a Class D surface area, at San Clemente Island NALF (Fredrick Sherman Field), San Clemente, CA. The San Clemente Island NDB has been decommissioned, and the NDB approach canceled. This action will also update the geographic coordinates of the airport to coincide with the FAA's National Aeronautical Navigation Services. This action is necessary for the safety and management of IFR operations.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified this rule, when promulgated, will not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends controlled airspace at San Clemente Island NALF (Fredrick Sherman Field), San Clemente, CA.

List of Subjects in 14 CFR Part 71

Airspace, Incorporation by reference, Navigation (air).

Adoption of the Amendment

In consideration of the foregoing, the Federal Aviation Administration amends 14 CFR Part 71 as follows:

PART 71—DESIGNATION OF CLASS A, B, C, D AND E AIRSPACE AREAS; AIR TRAFFIC SERVICE ROUTES; AND REPORTING POINTS

1. The authority citation for 14 CFR Part 71 continues to read as follows:

Authority: 49 U.S.C. 106(g), 40103, 40113, 40120; E.O. 10854, 24 FR 9565, 3 CFR, 1959-1963 Comp., p. 389.

§ 71.1 [Amended]

2. The incorporation by reference in 14 CFR Part 71.1 of the Federal Aviation Administration Order 7400.9U, Airspace Designations and Reporting Points, dated August 18, 2010, and effective September 15, 2010 is amended as follows:

Paragraph 6004 Class E airspace Designated as an Extension to a Class D Surface Area.

* * * * *

AWP CA E4 San Clemente, CA [Modified]

San Clemente Island NALF (Fredrick Sherman Field), CA

(Lat. 33°01′22″ N., long. 118°35′19″ W.)

San Clemente Island TACAN

(Lat. 33°01′37″ N., long. 118°34′46″ W.)

That airspace extending upward from the surface within 2.6 miles each side of the San Clemente Island TACAN 334° radial extending from the 4.3-mile radius of San Clemente Island NALF (Fredrick Sherman Field) to Control 1177L, and within 1.8 miles each side of the 064° bearing from San Clemente Island NALF (Fredrick Sherman Field) extending from the 4.3-mile radius to 9 miles northeast. This Class E airspace area is effective during the specific dates and times established in advance by a Notice to Airmen. The effective date and time will thereafter be continuously published in the Airport/Facility Directory.

Issued in Seattle, Washington, on September 23, 2010.
Lori Andriesen,
Acting Manager, Operations Support Group, Western Service Center.

[FR Doc. 2010-24799 Filed 10-5-10; 8:45 am]

BILLING CODE 4910-13-P